DEPARTMENT OF THE INTERIOR

Bureau of Land Management

[WY-040-06-1610-DT]

Notice of Availability of the Record of Decision for the Jack Morrow Hills Coordinated Activity Plan and Green River Resource Management Plan Amendment, Wyoming

AGENCY: Bureau of Land Management, Interior.

ACTION: Notice of availability.

SUMMARY: In accordance with the Federal Land Policy and Management Act and the National Environmental Policy Act, the Bureau of Land Management (BLM) announces the availability of the Record of Decision (ROD) for the Jack Morrow Hills Coordinated Activity Plan (CAP) and Green River Resource Management Plan (RMP) Amendment. The ROD documents the BLM's decision to approve a land use plan amendment that addresses approximately 585,000 acres of public land located in Sweetwater, Sublette, and Fremont counties in southwestern Wyoming. The JMH CAP/Green River RMP Amendment contains land-use plan decisions that supersede previous land-use planning decisions made in the Green River RMP and completes decisions deferred in the Green River RMP. The CAP/ROD went into effect on the date the Wyoming State Director signed the ROD. Publication of this NOA today announces and commences the 30-day appeal period for a project implementation included in the ROD.

ADDRESSES: The ROD will be available electronically on the following Web site: http://www.wy.blm.gov/jmhcap.

Copies of the Jack Morrow Hills CAP/ROD are available for public inspection at the following BLM office locations:

• Bureau of Land Management, Wyoming State Office

• 5353 Yellowstone Road, Cheyenne, Wyoming 82003.

• Bureau of Land Management, Rock Springs Field Office,

• 280 Highway 191 North, Rock Springs, Wyoming 82901.

To request a copy of the ROD, please write or telephone the BLM contacts listed below.

FOR FURTHER INFORMATION CONTACT: Michael R. Holbert, Field Manager, or Renee Dana, Jack Morrow Hills CAP Team Leader, Bureau of Land Management, Rock Springs Field Office, 280 Highway 191 North, Rock Springs, Wyoming 82901. Requests for a copy of the ROD may be sent electronically to: rock_springs_wymail@blm.gov with “JMH CAP” in the subject line. Mr. Holbert and Ms. Dana may be reached at (307) 352-0256.

SUPPLEMENTARY INFORMATION: The Jack Morrow Hills CAP/ROD was developed with broad public participation through a 4-year collaborative planning process. The Jack Morrow Hills CAP/ROD is designed to achieve or maintain desired future conditions developed through the planning process. To meet the desired resource conditions, it includes a series of management actions for resources in the area including upland and riparian vegetation, wildlife habitats, heritage and visual resources, air quality, sensitive species, special management areas, livestock grazing, minerals including oil and gas, and recreation.

In response to the 30 day protest period that ended on August 16, 2004, a total of 1,011 protests were received by BLM. The BLM reviewed and responded to all submittals. The ROD includes a decision regarding the implementation of the project that may be appealed in accordance with 43 CFR part 4. The 30-day appeal period will start on the date this Notice of Availability is published in the Federal Register.

The JMH CAP and ROD modify existing special management areas and establish new ones. The JMH planning area includes five Areas of Critical Environmental Concern (ACECs) previously designated under the Green River RMP. Four of the designated five ACECs remain unchanged. The fifth, Steamboat Mountain ACEC, has been expanded by about 4,000 acres and includes the Indian Gap historic trail and key habitats types such as the rare sagebrush/scurfpea vegetation type.

To protect important scientific values, the West Sand Dunes Archaeological District has been established as a new management area. So that the BLM may mange a portion of the public lands with important Native American cultural values, important watershed values, unique wildlife habitat, and feature crucial and overlapping big game habitat the Steamboat Mountain Management Area has been established.

The Jack Morrow Hills CAP is essentially the same as the Proposed Plan in the Jack Morrow Hills CAP/FEIS published in July 14, 2004 (69 FR 42201). No inconsistencies with State or local plans, policies, or programs were identified during the Governor's consistency review of the CAP/FEIS. As a result, only editorial modifications were made in the JMH CAP. These modifications correct and clarify errors that were noted during review of the CAP/FEIS and provide further clarification for some of the decisions.

Dated: March 28, 2006.
Walter E. George,
Acting State Director.

[FR Doc. E6-11590 Filed 7-19-06; 8:45 am]

BILLING CODE 4310-22-P